FEDERAL COMMUNICATIONS COMMISSION

47 CFR Parts 2 and 27

[GN Docket No. 13-185; FCC 14-31]

Commercial Operations in the 1695-1710 MHz, 1755-1780 MHz, and 2155-2180 MHz Bands

AGENCY: Federal Communications Commission.

ACTION: Final rule; announcement of effective date.

SUMMARY: In this document, the Federal Communications Commission (Commission) announces that the Office of Management and Budget (OMB) has approved, for a period of three years, the information collection requirements associated with the Commission's Report and Order for Commercial Operations in the 1695-1710 MHz, 1755-1780 MHz, and 2155-2180 MHz Bands (Service Rules for Advance Wireless Service (AWS)), FCC 14-31. This notice is consistent with the Report and Order, which stated that the Commission would publish a document in the Federal Register announcing OMB approval and the effective date of the new or modified information collection requirements.

DATES: The amendments to 47 CFR 2.1033(c)(19)(i)-(ii); 27.14(k), (s); 27.17(c); 27.50(d)(3); 27.1131; 27.1132; 27.1134(c), (f) published at 79 FR 32366, June 4, 2014, are effective on January 28, 2015.

FOR FURTHER INFORMATION CONTACT: For additional information, contact Cathy Williams by email at Cathy.Williams@fcc.gov and telephone at (202) 418-2918.

SUPPLEMENTARY INFORMATION: This document announces that, on January 13, 2015, OMB approved the information collection requirements contained in the Commission's Report and Order, FCC 14-31, published in 79 FR 32366, June 4, 2014, and amended at 79 FR 59138, October 1, 2014. The OMB Control Number is 3060-1030. The Commission publishes this notice as an announcement of the effective date of the information collection requirements.

Synopsis

As required by the Paperwork Reduction Act of 1995 (44 U.S.C. 3507), the FCC is notifying the public that it received OMB approval on January 13, 2015, the new or modified information collection requirements contained in the Commission's rules at 47 CFR 2.1033(c)(19)(i)-(ii); 27.14(k), (s); 27.17(c); 27.50(d)(3); 27.1131; 27.1132; 27.1134(c), (f).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1030.

The foregoing notice is required by the Paperwork Reduction Act of 1995, Public Law 104-13, October 1, 1995, and 44 U.S.C. 3507.

The total annual reporting burdens and costs for the respondents are as follows:

OMB Control Number: 3060-1030.

OMB Approval Date: January 13, 2015.

OMB Expiration Date: January 31, 2018.

Title: Service Rules for Advanced Wireless Services (AWS) in the 1.7 GHz and 2.1 GHz Bands.

Form Number: N/A.

Respondents: Business or other for-profit entities; state, local, or tribal government; and not for profit institutions.

Number of Respondents and Responses: 393 respondents; 83,505 responses.

Estimated Time per Response: 0.25 to 5 hours.

Frequency of Response: Annual, semi-annual, and on occasion reporting requirements, recordkeeping requirement, third-party disclosure requirements, and every ten years reporting requirements.

Obligation to Respond: Required to obtain or retain benefits. The statutory authority for this collection is contained in sections 1, 2, 4(i), 201, 301, 302, 303, 307, 308, 309, 310, 316, 319, 324, 332, and 333 of the Communications Act of 1934, as amended, and sections 6003, 6004, and 6401 of the Middle Class Tax Relief Act of 2012, Public Law 112-96, 126 Stat. 156, 47 U.S.C. 151, 152, 154(i), 201, 301, 302(a), 303, 307, 308, 309, 310, 316, 319, 324, 332, 333, 1403, 1404, and 1451.

Total Annual Burden: 24,417 hours.

Total Annual Cost: $508,120.

Nature and Extent of Confidentiality: There is no need for confidentiality with this collection of information

Privacy Act Impact Assessment: No impact(s).

Needs and Uses: The Commission received approval from the Office of Management and Budget (“OMB”) for the information collection requirements that are contained in the AWS-3 Report and Order, FCC 14-31, whose information collection requirements for new spectrum bands increased the number of respondents, responses, hourly burden, and annual costs associated with these bands. We also updated prior estimates for other related spectrum bands.

Federal Communications Commission.
Marlene H. Dortch,
Secretary, Office of the Secretary, Office of the Managing Director.

[FR Doc. 2015-01470 Filed 1-27-15; 8:45 am]

BILLING CODE 6712-01-P